DEPARTMENT OF STATE

[Public Notice 9915]

U.S. Department of State Advisory Committee on Private International Law (ACPIL): Public Meeting on Electronic Commerce—Cloud Computing

The Office of the Assistant Legal Adviser for Private International Law, Department of State, gives notice of a public meeting to discuss possible work by the United Nations Commission on International Trade Law (UNCITRAL) in the area of cloud computing. The public meeting will take place on Monday, April 10, 2017 from 10 a.m. until 12:30 p.m. EDT. This is not a meeting of the full Advisory Committee.

At its 2016 annual meeting, the Commission decided that UNCITRAL's Working Group IV could take up work on the topics of identity management and cloud computing. The Commission asked the UNCITRAL Secretariat and Working Group IV to conduct preparatory work on both topics so that the Commission might make an informed decision about future work on these topics. In this regard, the UNCITRAL Secretariat has drafted a note on contractual aspects of cloud computing, A/CN.9/WG.IV/WP.142, which is available at http://www.uncitral.org/pdf/english/workinggroups/wg_4/WP-142-e.pdf. In its note, the Secretariat requests guidance from Working Group IV on the scope of any work in the area of cloud computing, possible methodology, and priority to be allocated to any work.

The purpose of the public meeting is to obtain the views of concerned stakeholders on the issues presented in the Secretariat's note as well as the need for an UNCITRAL instrument on this topic. Participants in the public meeting should read the Secretariat's note in advance of the meeting and should be prepared to discuss the issues presented within the note as well as the sample text included as an annex to the note. Those who cannot attend but wish to comment are welcome to do so by email to Michael Coffee at coffeems@state.gov.

Time and Place: The meeting will take place on April 10, 2017, from 10 a.m. until 12:30 p.m. EDT in Room 356, South Building, State Department Annex 4A, Washington, DC 20037. Participants should plan to arrive at the Navy Hill gate on the west side of 23rd Street NW., at the intersection of 23rd Street NW. and D Street NW. by 9:30 a.m. for visitor screening. If you are unable to attend the public meeting and would like to participate from a remote location, teleconferencing will be available.

Public Participation: This meeting is open to the public, subject to the capacity of the meeting room. Access to the building is strictly controlled. For pre-clearance purposes, those planning to attend should email pil@state.gov providing full name, address, date of birth, citizenship, driver's license or passport number, and email address. This information will greatly facilitate entry into the building. A member of the public needing reasonable accommodation should email pil@state.gov not later than April 3, 2017. Requests made after that date will be considered, but might not be able to be fulfilled. If you would like to participate by telephone, please email pil@state.gov to obtain the call-in number and other information.

Data from the public is requested pursuant to Public Law 99-399 (Omnibus Diplomatic Security and Antiterrorism Act of 1986), as amended; Public Law 107-56 (USA PATRIOT Act); and Executive Order 13356. The purpose of the collection is to validate the identity of individuals who enter Department facilities.

The data will be entered into the Visitor Access Control System (VACS-D) database. Please see the Security Records System of Records Notice (State-36) at https://foia.state.gov/_docs/SORN/State-36.pdf for additional information.

Michael S. Coffee,
Attorney-Adviser, Office of Private International Law, Office of the Legal Adviser, Department of State.

[FR Doc. 2017-04900 Filed 3-10-17; 8:45 am]

BILLING CODE 4710-08-P